DEPARTMENT OF AGRICULTURE

Forest Service

Plumas County Resource Advisory Committee (RAC)

AGENCY: Forest Service, USDA.

ACTION: Notice of meeting.

SUMMARY: The Plumas County Resource Advisory Committee (RAC) will hold a meeting on September 29, 2006, in Quincy, CA. The purpose of the meeting is to discuss residual funding and recommend how it might be distributed. The funding is available under the Title II Provisions of the Secure Rural Schools and Community Self-Determination Act of 2000. Several Cycle 6 projects not yet approved will be included in the discussion and could potentially be recommended to the Plumas (PNF) or Lassen (LNF) National Forest Supervisor for funding. Cost overruns for other projects will also be considered among other alternatives.

DATES AND ADDRESSES: The meeting will take place from 9-12 at the Mineral Building—Plumas/Sierra County Fairgrounds, 208 Fairgrounds Road, Quincy, CA.

FOR FURTHER INFORMATION CONTACT: Lee Anne Schramel Taylor, Forest Coordinator, USDA, Plumas National Forest, P.O. Box 11500/159 Lawrence Street, Quincy, CA 95971; (530) 283-7850; or by E-Mail. eataylor@fs.fed.us.

SUPPLEMENTARY INFORMATION: Agenda items for the September 29 meeting include: (1) Forest Service Update; (2) Residual funding availability; (3) Recommendations for funding distribution, potentially including current Cycle 6 projects not yet approved; and, (3) Review future meeting schedule and agenda. The meetings are open to the public and individuals may address the Committee after being recognized by the Chair. Other RAC information including previous meeting agendas and minutes may be obtained at http://www.notes.fs.fed.us:81/r4/payments_to_states.

Dated: August 30, 2006.
Robert G. Macwhorter,
Deputy Forest Supervisor.

[FR Doc. 06-7482 Filed 9-6-06; 8:45 am]

BILLING CODE 3410-11-M